DEPARTMENT OF ENERGY

Federal Energy Regulatory Commission

[Docket No. ER01-2318-000]

San Diego & Electric Co., Errata Notice; Notice of Filing

June 18, 2001.

Take notice that in the above referenced notice (66 FR 33958, pub. June 26, 2001) the caption was inadvertently named Idaho Power Company. The correct name is San Diego Gas & Electric Company.

The following paragraphs replaces the first paragraph issued on the Notice of Filing June 18, 2001:

Take notice that on June 13, 2001, San Diego Gas & Electric Company (SDG&E) tendered for filing as service agreements to its Federal Energy Regulatory Commission Electric Tariff, First Revised Volume No. 6, two interconnection agreements. Both agreements related to the interconnection of a new generation plant to be owned by Wildflower Energy, LP (Wildflower). The plant, with a capacity of approximately 92 megawatts, is being constructed on an expedited basis to meet potential shortfalls this summer in the Wester states' electricity supplies. It will be located in the City of San Diego, County of San Diego, California and is expected to being service on or about July 1, 2001.

Service Agreement No. 7 is an Expedited Interconnection Facilities Agreement dated June 13, 2001, between SDG&E and Wildflower, dated June 13, 2001, under which SDG&E will construct, operate, and maintain the proposed interconnection facilities. Service Agreement No. 8, the Interconnection Agreement between SDG&E and Wildflower dated June 13, 2001, establishes interconnection and operating responsibilities and associated communications procedures between the parties. SDG&E states that copies of the filing have been served on Wildflower and on the California Public Utilities Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 9, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbeell.htm

David P. Boergers,
Secretary.

[FR Doc. 01-16749 Filed 7-3-01; 8:45 am]

BILLING CODE 6717-01-M